DEPARTMENT OF DEFENSE

Department of the Army

[Docket ID: USA-2008-0038]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Send comments to the Department of the Army, PA/FOIA Division, 7701 Telegraph Road, Alexandria, VA 22315.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0601-210b USAREC

SYSTEM NAME:

Recruiter Impropriety Case Files (February 22, 1993, 58 FR 10002).

CHANGES:

Change system ID to “A0601-210b TRADOC”.

* * * * *

AUTHORITY FOR MAINTENANCE OF THE SYSTEM:

Delete entry and replace with “10 U.S.C. 3013, Departmental Regulations; AR 601-210, Active and Reserve Components Enlisted Program and E.O. 9397 (SSN).”

* * * * *

STORAGE:

Delete entry and replace with “Paper records in file cabinets and electronic storage media.”

RETRIEVABILITY:

Delete entry and replace with “By surname.”

SAFEGUARDS:

Correct spelling of therefor to “therefore”.

* * * * *

SYSTEM MANAGER(S) AND ADDRESS:

Delete entry and replace with “Commander, U.S. Army Recruiting Command, Fort Knox, KY 40121-2725.”

NOTIFICATION PROCEDURE:

Delete entry and replace with “Individuals seeking to determine whether information about themselves is contained in this system should address written inquiries to the Commander, U.S. Army Recruiting Command, ATTN: Director, Personnel, Administration and Logistics, Building 1307, 3rd Avenue, Fort Knox, KY 40121-2725.

Requests should contain full name, address, telephone number, military status, and sufficient details concerning the event or incident to permit locating the records.

In addition, the requester must provide a notarized statement or an unsworn declaration in accordance with 28 U.S.C. 1746, in the following format:

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

RECORD ACCESS PROCEDURES:

Delete entry and replace with “Individuals seeking access to information about themselves contained in this system should address written inquiries to the Commander, U.S. Army Recruiting Command, ATTN: Director, Personnel, Administration and Logistics, Building 1307, 3rd Avenue, Fort Knox, KY 40121-2726.

Requests should contain full name, address, telephone number, military status, and sufficient details concerning the event or incident to permit locating the records.

In addition, the requester must provide a notarized statement or an unsworn declaration in accordance with 28 U.S.C. 1746, in the following format:

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

* * * * *

A0601-210b TRADOC

SYSTEM NAME:

Recruiter Impropriety Case Files.

SYSTEM LOCATION:

U.S. Army Recruiting Command, Fort Knox, KY 40121-5000. Segments exist at recruiting brigades and divisions, the addresses of which may be obtained from the System Manager.

CATEGORIES OF INDIVIDUALS COVERED BY THE SYSTEM:

Recruiters against whom improprieties or irregularities have been alleged.

CATEGORIES OF RECORDS IN THE SYSTEM:

Recruiter's name, Social Security Number, duty station; report of alleged impropriety or misconduct; report of investigation; findings, recommendations; decisional documents; resultant personnel actions; similar relevant documents.

AUTHORITY FOR MAINTENANCE OF THE SYSTEM:

10 U.S.C. 3013, Departmental Regulations; AR 601-210, Active and Reserve Components Enlisted Program and E.O. 9397 (SSN).

PURPOSE(S):

To review recruiter improprieties and determine appropriate and necessary action, including reassignment, MOS reclassification, and/or disciplinary measures. Statistical information is used as a basis for modifying recruiting policies and practices.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

POLICIES AND PRACTICES FOR STORING, RETRIEVING, ACCESSING, RETAINING, AND DISPOSING OF RECORDS IN THE SYSTEM:

STORAGE:

Paper records in file cabinets and electronic storage media.

RETRIEVABILITY:

By surname.

SAFEGUARDS:

Records are maintained in secured areas accessible only to designated individuals having official need therefore, within buildings protected by security guards.

RETENTION AND DISPOSAL:

Records at the U.S. Army Recruiting Command are destroyed after 3 years; those at recruiting brigade and division levels are destroyed after 2 years.

SYSTEM MANAGER(S) AND ADDRESS:

Commander, U.S. Army Recruiting Command, Fort Knox, KY 40121-2725.

NOTIFICATION PROCEDURE:

Individuals seeking to determine whether information about themselves is contained in this system should address written inquiries to the Commander, U.S. Army Recruiting Command, ATTN: Director, Personnel, Administration and Logistics, Building 1307, 3rd Avenue, Fort Knox, KY 40121-2725.

Requests should contain full name, address and telephone number, military status, sufficient details concerning the event or incident to permit locating the records.

In addition, the requester must provide a notarized statement or an unsworn declaration in accordance with 28 U.S.C. 1746, in the following format:

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

RECORD ACCESS PROCEDURES:

Individuals seeking access to information about themselves contained in this system should address written inquiries to the Commander, U.S. Army Recruiting Command, ATTN: Director, Personnel, Administration and Logistics, Building 1307, 3rd Avenue, Fort Knox, KY 40121-2726.

Requests should contain full name, address and telephone number, military status, sufficient details concerning the event or incident to permit locating the records.

In addition, the requester must provide a notarized statement or an unsworn declaration in accordance with 28 U.S.C. 1746, in the following format:

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

CONTESTING RECORD PROCEDURES:

The Army's rules for accessing records, and for contesting contents and appealing initial agency determinations are contained in Army Regulation 340-21; 32 CFR part 505; or may be obtained from the system manager.

RECORD SOURCE CATEGORIES:

From U.S. Army Criminal Investigation Command reports of investigation; other Army records and reports.

EXEMPTIONS CLAIMED FOR THE SYSTEM:

None.

[FR Doc. E8-17018 Filed 7-24-08; 8:45 am]

BILLING CODE 5001-06-P